FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011637-003.

Title: Ampac Cooperative Working Agreement.

Parties: Mexican Line Limited, Columbus Line, Maruba S.C.A.

Synopsis: The proposed amendment changes the name of Columbus Line's corporate parent. In addition, it reflects changes in the provision of vessels to be operated under the Agreement and adds provisions in the Agreement's termination provisions to deal with possible changes in control of an Agreement party.

Dated: November 3, 2000.
By Order of the Federal Maritime Commission.
Bryant L. VanBrakle,
Secretary.

[FR Doc. 00-28665 Filed 11-7-00; 8:45 am]

BILLING CODE 6730-01-P